DEPARTMENT OF TRANSPORTATION

Federal Railroad Administration

Pilot Project Grants in Support of Railroad Safety Risk Reduction Programs

AGENCY: Federal Railroad Administration (FRA), Department of Transportation (DOT).

ACTION: Notice of Funding Availability, Solicitation of Applications.

SUMMARY: This notice details the application requirements and procedures for obtaining grant funding for pilot projects designed to eliminate or reduce railroad accidents caused by Electronic Device Distraction (EDD), by improving safety culture and making misuse socially unacceptable. Components of these pilot projects will include peer-to-peer safety training techniques, and other innovative processes. These pilot projects will be used to supplement and enhance compliance with Title 49 Code of Federal Regulations (CFR) Part 220, Subpart C, Electronic Devices. The purpose of this subpart is to reduce safety risks resulting from railroad operating employees being distracted by the inappropriate use of electronic devices, such as mobile telephones and laptop computers. This subpart was codified in response to an increase in the number of accidents caused by misuse of personal electronic devices. The opportunities described in this notice are available under the Catalog of Federal Domestic Assistance (CFDA) Number 20.301

DATES: Applications for funding under this solicitation are due no later than 5 p.m., 30 days after publication in the Federal Register, and must be submitted on Grants.gov. See Section 4 for additional information regarding the application process. FRA reserves the right to modify this deadline.

FOR FURTHER INFORMATION CONTACT: Michael Fitzpatrick, Risk Reduction Railroad Specialist, Risk Reduction Program Division, Office of Railroad Safety, FRA, 1200 New Jersey Avenue SE., Washington, DC 20590; (202) 493-6021; or Michael.Fitzpatrick@dot.gov.

SUPPLEMENTARY INFORMATION:

Table of Contents

1. Funding Opportunity Description

2. Award Information

3. Eligibility Information

4. Application and Submission Information

5. Application Review Information

6. Award Administration Information

7. Payment Method

8. Agency Contact

Appendix 1: Administrative and National Policy Requirements

Appendix 2: Additional Information on Award Administrations and Grant Conditions

Appendix 3: Additional Information on Applicant Budgets

Section 1: Funding Opportunity Description

1.1 Authority

The purpose of this notice is to detail the process of applying for grant funding for risk reduction pilot projects designed to eliminate or reduce railroad accidents caused by electronic devices by making misuse of electronic devices socially unacceptable and improving safety culture using peer-to-peer coaching techniques. Congress, in Section 103 of the Rail Safety Improvement Act of 2008 (Pub. L. 110-432, October 16, 2008) required the Secretary of Transportation, by regulation, to require each railroad carrier that is either a Class I railroad, a railroad carrier that has inadequate safety performance, or a railroad carrier that provides intercity rail passenger or commuter rail passenger transportation to develop a railroad safety risk reduction program that systematically evaluates railroad safety risks on its system and manages those risks in order to reduce the numbers and rates of railroad accidents, incidents, injuries, and fatalities. The statute also authorized the Secretary to conduct behavior-based safety and other research, including pilot programs, and to use any such research and pilot programs in developing the regulations.

1.2 Funding Approach

At least $200,000 is available for awards under this solicitation.

Section 2: Award Information

FRA anticipates making multiple awards from the $200,000 available. As such, FRA expects applicants to tailor their applications and proposed project scopes accordingly. There are no minimum or maximum dollar thresholds for awards, and FRA may choose to award a grant for less than the amount requested in the application. The funding provided under these grants will be made available to grantees on a reimbursement basis.

Section 3: Eligibility Information

3.1 Eligible Applicants

Eligible applicants include: Individual railroad(s), railroad association(s), rail labor organization(s), or a combination of a railroad and its attendant labor organization(s) developing a cooperative program (multiple stakeholders).

3.2 Cost Sharing and Matching

Applicants should specify the non-Federal match amount, if any, in their application. Applicants should indicate whether funding made available through grants provided under this program, together with committed funding from other sources, will be sufficient to complete the overall project or a discrete portion of the project. An applicant's contribution toward the cost of its proposed project may be in the form of cash or permitted in-kind contributions. As part of its application, an applicant offering an in-kind contribution must provide a documented estimate of the monetary value of any such contribution. All in-kind contributions must be allowable, reasonable, allocable, and in accordance with applicable Office of Management and Budget (OMB) cost principles (see Appendix 1), and must not represent double counting of costs otherwise accounted for in an indirect cost rate pursuant to which the applicant will seek reimbursement.

3.3 Eligible Projects

FRA is seeking innovative pilot projects that eliminate or reduce accidents where the primary or contributing cause is distraction associated with the misuse of personal electronic devices. The selected pilot projects will use innovative processes such as peer-to-peer coaching to make misuse of personal electronic devices socially unacceptable, thereby improving the safety culture and eliminating or reducing accidents caused by distractions.

Submitted applications should address the following criteria and considerations:

• Program Logic and Resource Allocation: The projects must clearly show a link between the resources being allocated, the processes and tasks being developed and executed, and the desired outcome.

• Partnership with stakeholders: Shared responsibility and program ownership are critical to a successful project, and understandings and commitments between stakeholders should be clearly defined.

• Feasibility: Projects must show feasibility and a strong likelihood of success.

• Results: Program goals (process goals such as number of people educated/trained, and end goals) must be clearly stated.

• Impact: The projected impact on safety must be stated: Local, division or region, systemwide, and industrywide (e.g. the pilot could be targeted at a single yard or terminal, single group at the location such as train, yard, and engine, single shift such as 11:00 p.m. to 7:00 a.m.).

• Schedule: Estimate time and location to begin implementation, estimate time when demonstrable improvements will be measureable.

Section 4: Application and Submission Information

4.1 Application Procedures

4.1.1 Applying Online

All applications must be submitted through Grants.gov by 5 p.m., 30 days after this notice is published in the Federal Register. Applicants are strongly encouraged to apply early to ensure that all materials are received before this deadline. To apply for funding through Grants.gov, applicants must be properly registered. Complete instructions on how to register and submit an application can be found at Grants.gov. Registering with Grants.gov is a onetime process; however, it can take up to several weeks for first-time registrants to receive confirmation and a user password. FRA recommends that applicants start the registration process as early as possible to prevent delays that may preclude submitting an application package by the application deadline. Applications will not be accepted after the due date. Delayed registration is not an acceptable justification for an application extension. In order to apply for funding under this announcement and to apply for funding through Grants.gov, all applicants are required to complete the following:

1. Acquire a DUNS Number

A Data Universal Numbering System (DUNS) number is required for Grants.gov registration. The Office of Management and Budget requires that all businesses and nonprofit applicants for Federal funds include a DUNS number in their applications for a new award or renewal of an existing award. A DUNS number is a unique nine-digit sequence recognized as the universal standard for identifying and keeping track of entities receiving Federal funds. The identifier is used for tracking purposes and to validate address and point of contact information for Federal assistance applicants, recipients, and subrecipients. The DUNS number will be used throughout the grant life cycle. Obtaining a DUNS number is a free, one-time activity. Applicants may obtain a DUNS number by calling (866) 705-5711 or by applying online at http://www.dnb.com/us.

2. Acquire or Renew Registration With the Central Contractor Registration Database

All applicants for Federal financial assistance must maintain current registrations in the Central Contractor Registration (CCR) database. An applicant must be registered in the CCR to successfully register in Grants.gov. The CCR database is the repository for standard information about Federal financial assistance applicants, recipients, and subrecipients. Organizations that have previously submitted applications via Grants.gov are already registered with CCR, as it is a requirement for Grants.gov registration. Please note, however, that applicants must update or renew their CCR registration at least once per year to maintain an active status, so it is critical to check registration status well in advance of the application deadline. Information about CCR registration procedures can be accessed at http://www.ccr.gov.

3. Acquire an Authorized Organization Representative and a Grants.gov Username and Password

Applicants must complete an Authorized Organization Representative (AOR) profile on Grants.gov and create a username and password. Applicants must use the organization's DUNS number to complete this step. Additional information about the registration process is available at http://www.Grants.gov/applicants/get_registered.jsp.

4. Acquire Authorization for Your AOR From the E-Business Point of Contact

The Applicant's E-Business Point of Contact (EBiz POC) must log in to Grants.gov to confirm a representative as an AOR. Please note that there can be more than one AOR at an organization.

5. Search for the Funding Opportunity on Grants.gov

The CFDA number for this opportunity is 20.301. It is titled: Electronic Device Distraction Safety Culture Improvement Pilot Project Grant.

6. Submit an Application Addressing All of the Requirements Outlined in This Funding Availability Announcement

Within 24 to 48 hours after submitting an electronic application, an applicant should receive an email validation message from Grants.gov. The validation message will explain whether the application has been received and validated or rejected, with an explanation. Applicants are urged to submit an application at least 72 hours prior to the due date of the application to allow time to receive the validation message and to correct any problems that may have caused a rejection notification. If you experience difficulties at any point during this process, please call the Grants.gov Customer Center Hotline at (800) 518-4726, 24 hours a day, and 7 days a week (closed on Federal holidays).

Note: Please use generally accepted formats such as .pdf, .doc, .docx, .xls, .xlsx, and .ppt, when uploading attachments.

4.1.2 Address To Request/Submit Application Package

To request a hard copy of the application package, please contact: Michael Fitzpatrick, Risk Reduction Railroad Specialist, Risk Reduction Program Division, Office of Railroad Safety, FRA, 1200 New Jersey Avenue SE., Washington, DC 20590; (202) 493-6021; or Michael.Fitzpatrick@dot.gov.

4.2 Content of Application

Required documents for the application package are outlined below. Applicants must complete and submit all components of the application package; failure to do so may result in the application being removed from consideration for award.

4.2.1 Project Narrative/Statement of Work

The following points describe the minimum content that will be required in the Project Narrative/Statement of Work elements of grant applications. These requirements must be satisfied through a narrative statement submitted by the applicant, and may be supported by spreadsheet documents, tables, drawings, and other materials, as appropriate. FRA recommends that applicants read this section carefully and submit all required information. If an application does not address each of these requirements to FRA's satisfaction, the application may be considered incomplete and removed from consideration for award. Each Project Narrative/Statement of Work must:

• Designate a point of contact for the applicant and provide his or her name and contact information, including phone number, mailing address, and email address. The point of contact must be an employee of an eligible applicant. Indicate the amount of Federal funding requested from the program, proposed non-Federal match, and total project cost.

• Explain how the applicant is an eligible applicant. For a full discussion of how an applicant can meet this burden, see Section 3.1 Eligible Applicants.

• Include a detailed project description with an explanation of how the project is an eligible project. For a full discussion of how an applicant can meet this burden, see Section 3.3 Eligible Projects.

• Include a thorough discussion of how the project meets all of the selection criteria. Applicants should note that FRA evaluates applications based upon the selection criteria. If an application does not sufficiently address the selection criteria, FRA will have little or no basis on which to evaluate the application; therefore, it will likely not be a competitive application. The selection criteria are described in detail in Section 5.2.

• Provide a detailed scope of work for the proposed project and include the anticipated project schedule. Describe the proposed project's physical location (as applicable). If the funding from the program is only going to be a component of the overall funding for the project, describe the complete project and specify which component will involve FRA funding. Applications should include feasibility studies and cost estimates, if completed. FRA will more favorably consider applications that include these types of studies and estimates, as they demonstrate that an applicant has a definite understanding of the scope and cost of the project. If FRA approves a project for funding, allowable costs (i.e., costs that can qualify for reimbursement from Federal funds or as part of the required non- Federal match) will have to directly support the pilot project.

• Describe proposed project implementation and project management arrangements. Include descriptions of expected arrangements for project contracting, contract oversight, change-order management, risk management, and conformance to Federal requirements for project progress reporting.

• Describe the anticipated benefits associated with the proposed project.

• Although FRA will weigh all of the selection criteria, potential applicants should be aware that FRA is seeking the maximum safety benefit from these limited funds.

• Format: Excluding spreadsheets, drawings, and tables, the Project Narrative/Statement of Work for grant applications may not exceed 10 pages in length. Failure to adhere to this page limitation may result in the application being removed from consideration for award.

• All application materials should be submitted as attachments through Grants.gov.

• Spreadsheets consisting of budget or financial information should be submitted via Grants.gov as Microsoft Excel (or compatible) documents.

4.4.2 Detailed Budget

Applicants must present a detailed budget for the proposed project that includes both Federal funds and matching funds. Items of cost included in the budget must be reasonable, allocable, and necessary for the project. For a non-construction project at a minimum, the budget should separate total cost of the project into the following categories, if applicable: (1) Personnel; (2) fringe benefits; (3) travel; (4) equipment; (5) supplies; (6) consultants/contracts; (7) other; and (8) indirect costs. See Appendix 3 of this solicitation for more information on project budgets.

4.3 Submission Dates and Times

Complete applications must be submitted to Grants.gov (as specified in Section 4.1) no later than 5 p.m., 30 days after this notice is published in the Federal Register. Grants.gov will send the applicant an automated email confirming receipt of the application. FRA reserves the right to contact applicants with any concerns, questions, or comments related to applications.

Section 5: Application Review Information

5.1 Application Review and Selection Process

Applications will proceed through a three-part review process:

1. Screening for completeness and eligibility.

2. Evaluation of eligible applications by technical panels applying the selection criteria.

3. Project selection by the FRA Administrator.

Each application will first be screened for completeness (containing all required documentation outlined in Section 4.2, and eligibility (requirements outlined in Section 3). Eligible and complete applications will then be evaluated by technical panels consisting of subject-matter experts against the selection criteria (outlined in Section 5.2). The ratings assigned by the technical panels will not constitute the final award determination. The FRA Administrator may take into account other factors determined to be relevant to achieving the goals of the program when making final award decisions.

5.2 Selection Criteria

FRA will consider the following selection factors in evaluating applications for grants under this program (all elements will have equal weight):

• Program Logic: The link between the resources being allocated, the processes and tasks being developed and executed and the desired outcome.

• Partnership with stakeholders: Shared responsibility and program ownership are critical to a successful project, clarity of understandings and commitments between stakeholders are important.

• Feasibility: Feasibility and a strong likelihood of success.

• Results: Achievement of program goals.

• Schedule: Programs with scheduled results showing sooner projected completion will be given greater consideration than programs with a longer timeline of completion.

• Cost sharing: Projects with a greater portion of matching funds will be given greater consideration, i.e. a program that proposes to match one company dollar for every grant dollar (1 to 1) would be given more consideration than a program that matches fifty cents for every grant dollar (.50 to 1).

Section 6: Award Administration Information

6.1 Award Notices

Applications selected for funding will be announced after the application review period. FRA will contact applicants with successful applications after announcement with information and instructions about the award process. Notification of a selected application is not an authorization to begin proposed project activities. The period of performance for this grant program is dependent on the project. However, any unobligated funds will be de-obligated at the end of the 90-day close-out period, provided for in Appendix 2.4. Extensions to the period of performance will be considered only through written requests to FRA with specific and compelling justifications why an extension is required.

6.2 Administrative and National Policy Requirements

The grantee and any subgrantee shall comply with all applicable laws and regulations. For a non-exclusive list of regulations commonly applicable to FRA grants refer to Appendix 1.

6.3 General Requirements

Grant recipients must comply with reporting requirements. All post-award information pertaining to reporting, auditing, monitoring, and the close-out process is detailed in Appendix 2.

Section 7. Payment Method

Payment of FRA funding through FRA's Office of Financial Services shall be made on a reimbursable basis whereby the grantee will be reimbursed, after the submission of proper invoices, for actual expenses incurred.

The grantee will use the following method for transfer of reimbursed funds: Automated Clearing House (ACH) Electronic Vendor Payment. The grantee submits SF 3881 and SF 270.

Section 8. Agency Contact

For further information regarding this notice and the grants program, please refer to the section titled “For Further Information Contact.”

Appendix 1. Administrative and National Policy Requirements

Appendix 1.1 Standard Financial and Program Administration Requirements

Grant recipients must follow all standard financial and program administration requirements, including:

• 49 CFR part 18, Uniform Administrative Requirements for Grants and Cooperative Agreements to State and Local Governments.

• 49 CFR part 19, Uniform Administrative Requirements for Grants and Cooperative

• Agreements with Institutions of Higher Education, Hospitals, and Other Non-Profits

• Organizations (OMB Circular A-110)

• Cost Principles

• 2 CFR part 225, Cost Principles for State, Local, and Indian Tribal Governments (OMB Circular A-87)

• 2 CFR part 220, Cost Principles for Educational Institutions (OMB Circular A-21)

• 2 CFR part 230, Cost Principles for Non-Profit Organizations (OMB A-122)

• Federal Acquisition Regulations (FAR), part 31.2 Contract Cost Principles and Procedures, Contracts with Commercial Organizations

• Audit Requirements

• OMB Circular A-133, Audits of States, Local Governments, and Non-Profit Organizations

Appendix 1.2 Administrative and National Policy Requirements

Grant recipients must follow all administrative and national policy requirements including: Procurement standards, compliance with Federal civil rights laws and regulations, disadvantaged business enterprises (DBE), debarment and suspension, drug-free workplace, FRA's and OMB's Assurances and Certifications, Americans with Disabilities Act (ADA), environmental protection, National Environmental Policy Act (NEPA), and environmental justice.

Appendix 1.3 Freedom of Information Act

As a Federal agency, FRA is subject to the Freedom of Information Act (FOIA) (5 U.S.C. 552), which generally provides that any person has a right, enforceable in court, to obtain access to Federal agency records, except to the extent that such records (or portions of them) are protected from public disclosure by one of nine exemptions or by one of three special law enforcement record exclusions. Grant applications and related materials submitted by applicants pursuant to this guidance will become agency records, and are subject to FOIA and to public release through individual FOIA requests. FRA also recognizes that certain information submitted in support of an application for funding in accordance with this guidance could be exempt from public release under FOIA as a result of the application of one of the FOIA exemptions, most particularly Exemption 4, which protects trade secrets and commercial or financial information obtained from a person that is privileged or confidential (5 U.S.C. 552(b)(4)). In the context of this grant program, commercial or financial information obtained from a person could be confidential if disclosure is likely to cause substantial harm to the competitive position of the person from whom the information was obtained (see National Parks & Conservation Association v. Morton, 498 F.2d 765, 770 (DC Cir. 1974)). Entities seeking exempt treatment must provide a detailed statement supporting and justifying the request and should follow FRA's existing procedures for requesting confidential treatment in the railroad safety context found at 49 CFR Section 209.11. As noted in the Department's FOIA implementing regulation (49 CFR part 7), the burden is on the entity requesting confidential treatment to identify all information for which exempt treatment is sought and to persuade the agency that the information should not be disclosed (see 49 CFR Section 7.17). The final decision as to whether the information meets the standards of Exemption 4 rests with FRA.

Appendix 2. Additional Information on Award Administration and Grant Conditions

Appendix 2.1 Reporting Requirements

Reporting requirements must be met throughout the life of the grant (additional detail will be included in the award package provided to selected applicants).

• Progress Reports—Progress reports are to be submitted quarterly. These reports must relate the state of completion of items in the Statement of Work to expenditures of the relevant budget elements. The grant recipient must furnish the quarterly progress report to FRA on or before the 30th calendar day of the month following the end of the quarter being reported. Grantees must submit reports for the periods: January 1-March 31, April 1-June 30, July 1-September 30, and October 1-December 31. Each quarterly report must set forth concise statements concerning activities relevant to the project, and should include, but not be limited to, the following:

○ An account of significant progress (findings, events, trends, etc.) made during the reporting period.

○ A description of any technical and/or cost problem(s) encountered or anticipated that will affect completion of the grant within the time and fiscal constraints as set forth in the agreement, together with recommended solutions or corrective action plans (with dates) to such problems, or identification of specific action that is required by FRA, or a statement that no problems were encountered.

○ An outline of work and activities planned for the next reporting period.

• Quarterly Federal Financial Report (SF-425)—The grantee must submit a quarterly Federal financial report electronically in FRA's Web-based grant management system, GrantSolutions, on or before the 30th calendar day of the month following the end of the quarter being reported (e.g., for the quarter ending March 31, the SF-425 is due no later than April 30). A report must be submitted for every quarter of the period of performance, including partial calendar quarters, as well as for periods where no grant activity occurs. The grantee must use SF-425, Federal Financial Report, in accordance with the instructions accompanying the form, to report all transactions, including Federal cash, Federal expenditures and unobligated balance, recipient share, and program income.

• Final Report(s)—Within 90 days of the project completion date or termination by FRA, the grantee must submit a summary project report in GrantSolutions. This report should detail the results and benefits of the grantee's improvement efforts.

• Reports, Presentations, and Other Deliverables—Whether for technical examination, administrative review, or publication, all submittals shall be of a professional quality and suitable for their intended purpose. Due dates for submittals shall be based on the specified intervals or days from the effective date of the agreement.

Appendix 2.2 Audit Requirements

Grant recipients that expend $500,000 or more of Federal funds during their fiscal year, combined from all sources, are required to submit an organization-wide financial and compliance audit report. The audit must be performed in accordance with the U.S. General Accountability Office, Government Auditing Standards, located at http://www.gao.gov/govaud/ybk01.htm, and OMB Circular A-133, Audits of States, Local Governments, and Non-Profit Organizations, located at http://www.whitehouse.gov/omb/circulars/a133/a133.html. Currently, audit reports must be submitted to the Federal Audit Clearinghouse no later than 9 months after the end of the recipient's fiscal year. In addition, FRA and the Comptroller General of the United States must have access to any books, documents, and records of grant recipients for audit and examination purposes. The grant recipient will also give FRA or the comptroller, through any authorized representative, access to, and the right to examine all records, books, papers, or documents related to the grant. Grant recipients must require that subgrantees comply with the audit requirements set forth in OMB Circular A-133. Grant recipients are responsible for ensuring that subrecipient audit reports are received and for resolving any audit findings.

Appendix 2.3 Monitoring Requirements

Grant recipients will be monitored periodically by FRA to ensure that the project goals, objectives, performance requirements, timelines, milestones, budgets, and other related program criteria are being met. FRA may conduct monitoring activities through a combination of office-based reviews and onsite monitoring visits. Monitoring will involve the review and analysis of the financial, programmatic, and administrative issues relative to each program and will identify areas where technical assistance and other support may be needed. The recipient is responsible for monitoring award activities, including subawards and subgrantees, in order to provide reasonable assurance that the award is being administered in compliance with Federal requirements. Financial monitoring responsibilities include the accounting of recipients and expenditures, cash management, maintaining of adequate financial records, and refunding expenditures disallowed by audits.

Appendix 2.4 Closeout Process

Project closeout occurs when all required project work and all administrative procedures have been completed, and when FRA notifies the grant recipient and forwards the final Federal assistance payment, or when FRA acknowledges the grant recipient's remittance of the proper refund. Project closeout should not invalidate any continuing obligations imposed on the grantee by an award or by the FRA's final notification or acknowledgment. Within 90 days of the project completion date or termination by FRA, grantees agree to submit a final Federal Financial Report (SF-425), a certification or summary of project expenses, and a final report.

Appendix 3. Additional Information on Applicant Budgets

The information contained in this appendix is intended to assist applicants with developing the SOW budget and OMB Standard Forms 424A: Budget Information— Non-Construction Programs and 424C: Budget Information—Construction Programs, as described in Section 4.2.

Appendix 3.1 Non-Construction Project Budgets

Applicants must present a detailed budget for the proposed project that includes both Federal funds and matching funds. Items of cost included in the budget must be reasonable, allocable, and necessary for the project. At a minimum, the budget should separate total cost of the project into the following categories and provide a basis of computation for each cost:

• Personnel: List each position by title and name of employee, if available, and show the annual salary rate and the percentage of time to be devoted to the project. Compensation paid for employees engaged in grant activities must be consistent with that paid for similar work within the applicant organization.

• Fringe Benefits: Fringe benefits should be based on actual known costs or an established formula. Fringe benefits are for personnel listed in the “Personnel” budget category and only for the percentage of time devoted to the project.

• Travel: Itemize travel expenses of project personnel by purpose (training, interviews, and meetings). Show the basis of computation (e.g., X people to Y-day training at airfare, lodging, subsistence).

• Equipment: List non-expendable items that are to be purchased. Nonexpendable equipment is tangible property having a useful life of more than 2 years and an acquisition cost of $5,000 or more per unit. (Note: the organization's own capitalization policy may be used for items costing less than $5,000.) Expendable items should be included either in the “Supplies” category or in the “Other” category. Applicants should analyze the cost benefits of purchasing versus leasing equipment, especially high-cost items and those subject to rapid technical advances. Rented or leased equipment should be listed in the “Contractual” category. Explain how the equipment is necessary for the success of the project. Attach a narrative describing the procurement method to be used.

• Supplies: List items by type (office supplies, postage, training materials, copying paper, and expendable equipment items costing less than $5,000) and show the basis for computation. (Note: The organization's own capitalization policy may be used for items costing less than $5,000). Generally, supplies include any materials that are expendable or consumed during the course of the project.

• Consultants/Contracts: Indicate whether applicant's written procurement policy (see 49 CFR Section 18.36) or the FAR are followed.

• Consultant Fees: For each consultant enter the name, if known, service to be provided, hourly or daily fee (8-hour day), and the estimated time on the project.

• Consultant Expenses: List all expenses to be paid from the grant to the individual consultants in addition to their fees (travel, meals, and lodging).

• Contracts: Provide a description of the product or service to be procured by contract and an estimate of the cost. Applicants are encouraged to promote free and open competition in awarding contracts. A separate justification must be provided for sole source contracts in excess of $100,000.

• Other: List items (rent, reproduction, telephone, janitorial, or security services) by major type and the basis of the computation. For example, provide the square footage and the cost per square foot for rent, or provide the monthly rental cost and how many months to rent.

• Indirect Costs: Indirect costs are allowed only if the applicant has a federally approved indirect cost rate. A copy of the rate approval (a fully executed, negotiated agreement) must be attached. If the applicant does not have an approved rate, one can be requested by contacting the applicant's cognizant Federal agency, which will review all documentation and approve a rate for the applicant organization.

Issued in Washington, DC, on June 7, 2012.
Robert C. Lauby,
Acting Associate Administrator for Railroad Safety/Chief Safety Officer.

[FR Doc. 2012-14418 Filed 6-12-12; 8:45 am]

BILLING CODE 4910-06-P